DEPARTMENT OF COMMERCE

U.S. Census Bureau

Proposed Information Collection; Comment Request; Census Coverage Measurement Initial Housing Unit Followup Operation

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 24, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument(s) and instructions should be directed to Gia F. Donnalley, U.S. Census Bureau, 4600 Silver Hill Road, Room 4K067, Washington, DC 20233, 301-763-4370 (or via the Internet at Gia.F.Donnalley@census.gov.)

SUPPLEMENTARY INFORMATION

I. Abstract

The 2010 Census Coverage Measurement (CCM) Initial Housing Unit Followup (IHUFU) Operation will be conducted in the U.S. (excluding remote Alaska) and in Puerto Rico in selected CCM sampled areas. The primary sampling unit is a block cluster, which consists of one or more geographically contiguous census blocks. As in the past, the CCM operations and activities will be managed and staffed separately from, and independent of, the 2010 Census operations.

CCM will be conducted to provide estimates of net coverage error and coverage error components for omissions and erroneous enumerations for housing units and persons in housing units (see Definition of Terms) to improve future censuses. The data collection and matching methodologies for previous coverage measurement programs were designed only to measure net coverage error, which reflects the difference between omissions and erroneous inclusions.

The 2010 CCM will be comprised of two samples selected to measure census coverage of housing units and the household population: The population sample (P sample) and the enumeration sample (E sample). The P sample is a sample of housing units and persons obtained independently from the census for a sample of block clusters. The E sample is a sample of census housing units and enumerations in the same block cluster as the P sample. The independent roster of housing units is obtained during the CCM Independent Listing, the results of which will be matched to census housing units in the sample block clusters and surrounding blocks. A separate OMB register notice was previously submitted for the Independent Listing operation published on July 25, 2008 (Vol. 73, Pg. 43406).

After the CCM Independent Listing and matching operations have taken place, some cases will be identified to receive the CCM IHUFU interview. Generally, these will be cases where additional information is needed to determine housing unit status (for example, clarify if the addresses refer to a housing unit, identify duplicate addresses) or resolve inconsistencies observed during the matching operations between the CCM and census addresses in the block cluster. Using a paper questionnaire tailored for the type of follow-up required, interviewers will contact a member (or proxy, as a last resort) of each housing unit needing followup to answer questions that might allow a resolution of housing unit status or clarify discrepancies. We also will conduct a quality control operation of the IHUFU called the Initial Housing Unit Followup Quality Control (IHUFU QC) of 10 percent of the IHUFU workload to ensure that the work performed is of acceptable quality. There will be two IHUFU Forms, D-1303 and D-1303PR. The D-1303 is the English language version of the IHUFU form and will be used to collect data and to conduct QC for addresses in CCM stateside sample areas. The D-1303PR is the Spanish language version of the listing form, which will be used for the same purposes in the CCM sample areas of Puerto Rico.

II. Method of Collection

The Initial Housing Unit Followup operation will be conducted using person-to-person interviews.

Definition of Terms

Components of Coverage Error—The four components of census coverage error are: Omissions, erroneous enumerations, correct enumerations, and whole-person census imputations. Whole-person census imputations are applicable only for person estimates.

Net Coverage Error—Reflects the difference between the estimated population (or subpopulation) total obtained through dual system estimation and the census count for that population (or subpopulation). A positive net error indicates a census undercount, while a negative net error indicates a census overcount.

For more information about the Census 2010 Coverage Measurement Program, please visit the following page of the Census Bureau's Web site: http://www.census.gov/cac/www/pdf/coverage-measurement-program.pdf

III. Data

OMB Control Number: None.

Form Number: D-1303, D-1303PR.

Type of Review: Regular submission.

Affected Public: Individuals or Households.

Estimated Number of Respondents: 400,000 Housing Units (HUs) for Initial Housing Unit Followup and 40,000 HUs for Initial Housing Unit Followup QC.

Estimated Time Per Response: 2 minutes.

Estimated Total Annual Burden Hours: 14,667 hours.

Estimated Total Annual Cost: No cost to the respondent except for their time to respond.

Respondent's Obligation: Mandatory.

Legal Authority: Title 13, U.S. Code, Section 141, 193, and 221.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 15, 2009.
Glenna Mickelson,
Management Analyst, Office of the Chief Information Officer.

[FR Doc. E9-1303 Filed 1-22-09; 8:45 am]

BILLING CODE 3510-07-P